DEPARTMENT OF DEFENSE

Office of the Secretary

32 CFR Part 58

Human Immunodeficiency Virus (HIV-1)

AGENCY: Department of Defense.

ACTION: Final rule.

SUMMARY: This document removes part 58, “Human Immunodeficiency Virus (HIV-1)” presently in Title 32 of the Code of Federal Regulations. This part has served the purpose for which it was intended in the CFR and is no longer necessary.

DATES: Effective Date: November 3, 2006.

FOR FURTHER INFORMATION CONTACT: L. Pahland, 703-681-1703, extension 5213.

SUPPLEMENTARY INFORMATION: This part 58 is removed to as a part of a DoD exercise to remove CFR parts no longer required to be codified. The corresponding DoD Instruction 6485.01 is available at http://www.dtic.mil/whs/directives/corres/html/648501.htm.

List of Subjects in 32 CFR Part 58

Foreign relations, Government employees, HIV/AIDS, Military personnel.

PART 58—[REMOVED]

Accordingly, by the authority of 10 U.S.C. 301, 32 CFR part 58 is removed.

Dated: October 30, 2006.
L.M. Bynum,
Alternate OSD Federal Register Liaison Officer, Department of Defense.

[FR Doc. 06-9044 Filed 10-2-06; 8:45 am]

BILLING CODE 5001-06-M